DEPARTMENT OF ENERGY

Federal Energy Regulatory Commission

[Project No. 3287-006]

American Land Company, LLC, Burnshire Hydroelectric, LLC; Notice of Transfer of Exemption

1. By letter filed February 14, 2012, American Land Company, LLC informed the Commission that its exemption from licensing for the Burnshire Dam Project No. 3287, originally issued September 22, 1982,¹ has been transferred to Burnshire Hydroelectric, LLC. The project is located on the North Fork, Shenandoah River in Shenandoah County, Virginia. The transfer of an exemption does not require Commission approval.

¹ 20 FERC ¶ 62,512, Order Granting Exemption From Licensing of a Small Hydroelectric Project of 5 Megawatts or Less.

2. Burnshire Hydroelectric, LLC, located at 480 N Pifer Road, Star Tannery, Virginia 22654 is now the exemptee of the Burnshire Dam Project No. 3287.

Dated: February 27, 2012.
Kimberly D. Bose,
Secretary.

[FR Doc. 2012-5107 Filed 3-1-12; 8:45 am]

BILLING CODE 6717-01-P